DEPARTMENT OF ENERGY

Federal Energy Regulatory Commission

[Docket No. RP23-466-000]

Florida Gas Transmission Company, LLC; Notice of Technical Conference

On March 29, 2023, the Commission issued an order directing Commission staff to convene a technical conference to discuss Florida Gas Transmission Company, LLC's justification and support for its proposed renewable natural gas (RNG) quality standards on its pipeline system.¹ The technical conference will be held on May 23, 2023, from 9 a.m. to 4 p.m. Eastern Standard Time. The conference will be held virtually and in person at a room to be designated at the offices of Federal Energy Regulatory Commission, 888 First Street NE, Washington, DC 20426. All interested persons are permitted to attend.

¹ Florida Gas Transmission Company, LLC, 182 FERC ¶ 61,204 (2023).

Commission conferences are accessible under section 508 of the Rehabilitation Act of 1973. For accessibility accommodations, please send an email to accessibility@ferc.gov, call toll-free (866) 208-3372 (voice) or (202) 208-8659 (TTY), or send a fax to (202) 208-2106 with the required accommodations.

For more information about this technical conference including how to participate, virtual and in person meeting details, etc., please contact Deirdra Archie at deirdra.archie@ferc.gov or at (202) 502-6819, Ryan Haffner at ryan.haffner@ferc.gov or at (202) 502-6428, Emily Murphy at emily.murphy@ferc.gov or at 202-502-6315, or W. Alex Schroeder at walter.schroeder@ferc.gov or at (202) 501-6291.

Dated: April 12, 2023.
Debbie-Anne A. Reese,
Deputy Secretary.

[FR Doc. 2023-08161 Filed 4-17-23; 8:45 am]

BILLING CODE 6717-01-P